DEPARTMENT OF DEFENSE

Department of the Army

[Docket ID USA-2011-0005]

Privacy Act of 1974; System of Records

AGENCY: Department of the Army, DoD.

ACTION: Notice to alter a system of records.

SUMMARY: Department of the Army is altering a system of records notices in its existing inventory of record systems subject to the Privacy Act of 1974, (5 U.S.C. 552a), as amended.

DATES: This proposed action will be effective without further notice on May 2, 2011 unless comments are received which result in a contrary determination.

ADDRESSES: You may submit comments, identified by docket number and/Regulatory Information Number (RIN) and title, by any of the following methods:

* Federal Rulemaking Portal: http://www.regulations.gov. Follow the instructions for submitting comments.

* Mail: Federal Docket Management System Office, 1160 Defense Pentagon, OSD Mailroom 3C843, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Mr. Leroy Jones at (703) 428-6185, or Department of the Army, Privacy Office, U.S. Army Records Management and Declassification Agency, 7701 Telegraph Road, Casey Building, Suite 144, Alexandria, VA 22325-3905.

SUPPLEMENTARY INFORMATION: Department of the Army notices for systems of records subject to the Privacy Act of 1974 (5 U.S.C. 552a), as amended, have been published in the Federal Register and are available from the FOR FURTHER INFORMATION CONTACT address above.

The proposed system report, as required by 5 U.S.C. 552a(r) of the Privacy Act of 1974, as amended, was submitted on March 25, 2011, to the House Committee on Government Reform, the Senate Committee on Homeland Security and Governmental Affairs, and the Office of Management and Budget (OMB) pursuant to paragraph 4c of Appendix I to OMB Circular No. A-130, “Federal Agency Responsibilities for Maintaining Records About Individuals,” February 20, 1996, 61 FR 6427.

Dated: March 29, 2011.
Morgan F. Park,
OSD Federal Register Liaison Officer, Department of Defense.

A0601-210a USAREC

System name:

Enlisted Eligibility Files (December 8, 2005, 70 FR 72998).

Changes:

* * * * *

System name:

Delete entry and replace with “Enlisted Applicants Eligibility Files.”

System location:

Delete entry and replace with “U.S. Army Accessions Command (ATAL-I), 1600 Spearhead Division, Department 600, Fort Knox, KY 40122-5600.”

Categories of individuals covered by the system:

Delete entry and replace with “Applicants processing for enlistment in the regular Army or the Army Reserve.”

Categories of records in the system:

Delete entry and replace with “Full name; other names used; Social Security Number (SSN); truncated SSN; driver's license number; citizenship; legal status; gender; race/ethnicity; date of birth; personal cell telephone number; home telephone number; personal e-mail address; military status; military history; current mailing address and/or home address; previous addresses; family information (mother, father, siblings; spouse, children, and other dependents); religious preferences; security clearance; fingerprints; travel outside the United States (where, when); foreign languages spoken, beneficiaries; financial information; medical information; law information; employment information; emergency contact; education information; and system-generated, record specific identification number via the Guidance Counselor Resource Center (GCRC) application.”

* * * * *

Purpose(s):

Delete entry and replace with “To make determinations on enlistment eligibility to include those who have requested a conduct, medical, and/or administrative waiver(s); determination of military occupational specialty qualifications; determination of civilian acquired skill qualification; exceptions to policy; and prior service personnel requesting an enlistment grade determination. To conduct enlistment processing of applicants for the regular Army and Army Reserve.”

Routine uses of records maintained in the system, including categories of users and the purposes of such uses:

Delete entry and replace with “In addition to those disclosures generally permitted under 5 U.S.C. 552a(b) of the Privacy Act of 1974, these records contained therein may specifically be disclosed outside the DoD as a routine use pursuant to 5 U.S.C. 552a(b)(3) as follows:

The DoD `Blanket Routine Uses' set forth at the beginning of the Army's compilation of systems of records notices also apply to this system.

To investigative service provider (ISP) for the sole purpose of conducting personnel security or suitability investigations on behalf of the Department of the Army to determination enlistment eligibility.

Note: This system of records contains Personally Identifiable Health information (PHI). The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.”

Storage:

Delete entry and replace with “Electronic storage media.”

Retrievability:

Delete entry and replace with “By Social Security Number (SSN) or a system generated, record specific identification number via the Guidance Counselor Resource Center (GCRC) application.”

Safeguards:

Delete entry and replace with “Electronically stored records are maintained in a secure datacenter on a secure Army installation with all protections afforded by the Army and Defense Information System Agency (DISA) security. Records are accessible only to authorized persons with a need-to-know who are properly screened, cleared and trained. Access is controlled through role based controls leveraging active directory authentication and system software with password-protected access. Buildings employ locks or rooms are security-controlled areas accessible only to authorized persons. Use of Common Access Card (CAC) is used to authenticate and lock out unauthorized access.

Retention and disposal:

Delete entry and replace with “Destroyed after 3 years, by electronic deletion; paper originals are returned to the owning applicant or destroyed by shredding after scanning.”

System manager(s) and address:

Delete entry and replace with “Commander, U.S. Army Accessions Command (ATAL-I), 1600 Spearhead Division, Department 600, Fort Knox, KY 40122-5600.”

Notification procedure:

Delete entry and replace with “Individuals wanting to know whether information on themselves is contained in this system of records should write to the Commander, U.S. Army Accessions Command (ATAL-I), 1600 Spearhead Division, Department 600, Fort Knox, KY 40122-5600.

Written requests should contain the full name, Social Security Number (SSN), date of birth, military status and current mailing address and any details which may assist in locating record.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

Record access procedures:

Delete entry and replace with “Individuals wanting access to records about themselves should write to the Commander, U.S. Army Accessions Command (ATAL-I), 1600 Spearhead Division, Department 600, Fort Knox, KY 40122-5600.

Written requests should contain the full name, Social Security Number (SSN), date of birth, military status and current mailing address and any details which may assist in locating record.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

* * * * *

A0601-210a USAREC

System name:

Enlisted Applicants Eligibility Files.

System location:

U.S. Army Accessions Command (ATAL-I), 1600 Spearhead Division, Department 600, Fort Knox, KY 40122-5600.

Categories of individuals covered by the system:

Applicants processing for enlistment in the regular Army or the Army Reserve.

Categories of records in the system:

Full name; other names used; Social Security Number (SSN); truncated SSN; driver's license number; citizenship; legal status; gender; race/ethnicity; date of birth; personal cell telephone number; home telephone number; personal e-mail address; military status; military history; current mailing address and/or home address; previous addresses; family information (mother, father, siblings; spouse, children, and other dependents); religious preferences; security clearance; fingerprints; travel outside the United States (where, when); foreign languages spoken, beneficiaries; financial information; medical information; law information; employment information; emergency contact; education information; and system-generated, record specific identification number via the Guidance Counselor Resource Center (GCRC) application.

Authority for maintenance of the system:

10 U.S.C. 3013, Secretary of the Army; 10 U.S.C. 504, Persons not qualified; DoD 6025.18-R, The DoD Health Information Privacy Regulation; Army Regulation 601-210, Personnel Procurement Active and Reserve Components Enlistment Program, and E.O. 9397 (SSN), as amended.

Purpose(s):

To make determinations on enlistment eligibility to include those who have requested a conduct, medical, and/or administrative waiver(s); determination of military occupational specialty qualifications; determination of civilian acquired skill qualifications; exceptions to policy; and prior service personnel requesting an enlistment grade determination. To conduct enlistment processing of applicants for the regular Army and Army Reserve.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD `Blanket Routine Uses' set forth at the beginning of the Army's compilation of systems of records notices also apply to this system.

To investigative service provider (ISP) for the sole purpose of conducting personnel security or suitability investigations on behalf of the Department of the Army to determination enlistment eligibility.

Note: This system of records contains Personally Identifiable Health information (PHI). The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Electronic storage media.

Retrievability:

By Social Security Number (SSN) or a system generated, record specific identification number via the Guidance Counselor Resource Center (GCRC) application.

Safeguards:

Electronically stored records are maintained in a secure datacenter on a secure Army installation with all protections afforded by the Army and Defense Information System Agency (DISA) security. Records are accessible only to authorized persons with a need-to-know who are properly screened, cleared and trained. Access is controlled through role based controls leveraging active directory authentication and system software with password-protected access. Buildings employ locks or rooms are security-controlled areas accessible only to authorized persons. Paper and electronic records are maintained in approved security containers. Use of Common Access Card (CAC) is used to authenticate and lock out unauthorized access.

Retention and disposal:

Destroyed after 3 years, by electronic deletion; paper originals are returned to the owning applicant or destroyed by shredding after scanning.

System manager(s) and address:

Commander, U.S. Army Accessions Command (ATAL-I), 1600 Spearhead Division, Department 600, Fort Knox, KY 40122-5600.

Notification procedure:

Individuals wanting to know whether information on themselves is contained in this system of records should write to the Commander, U.S. Army Accessions Command (ATAL-I), 1600 Spearhead Division, Department 600, Fort Knox, KY 40122-5600.

Written requests should contain the full name, Social Security Number (SSN), date of birth, military status and current mailing address and any details which may assist in locating record.

In addition, the requester must provide a notarized statement or an unsworn declaration made in accordance with 28 U.S.C. 1746, in the following format:

If executed outside the United States: `I declare (or certify, verify, or state) under penalty of perjury under the laws of the United States of America that the foregoing is true and correct. Executed on (date). (Signature).'

If executed within the United States, its territories, possessions, or commonwealths: `I declare (or certify, verify, or state) under penalty of perjury that the foregoing is true and correct. Executed on (date). (Signature).'

Record access procedures:

Individuals wanting access to records about themselves should write to the Commander, U.S. Army Accessions Command (ATAL-I), 1600 Spearhead Division, Department 600, Fort Knox, KY 40122-5600.

Written requests should contain the full name, Social Security Number (SSN), date of birth, military status and current mailing address and any details which may assist in locating record.

In addition, the requester must provide a notarized statement or an unsworn declaration made in accordance with 28 U.S.C. 1746, in the following format:

If executed outside the United States: `I declare (or certify, verify, or state) under penalty of perjury under the laws of the United States of America that the foregoing is true and correct. Executed on (date). (Signature).'

If executed within the United States, its territories, possessions, or commonwealths: `I declare (or certify, verify, or state) under penalty of perjury that the foregoing is true and correct. Executed on (date). (Signature).'

Contesting record procedures:

The Army's rules for accessing records, and for contesting contents and appealing initial agency determinations are contained in Army Regulation 340-21; 32 CFR part 505; or may be obtained from the system manager.

Record source categories:

From the individual, employers, probation officials, law enforcement officials, school officials, personal references, transcripts, medical records, Army records and reports.

Exemptions claimed for the system:

Investigatory material compiled solely for the purpose of determining suitability, eligibility, or qualifications for federal civilian employment, military service, federal contracts, or access to classified information may be exempt pursuant to 5 U.S.C. 552a(k)(5), but only to the extent that such material would reveal the identity of a confidential source.

An exemption rule for this system has been promulgated in accordance with requirements of 5 U.S.C. 553(b)(1), (2), and (3), (c), and (e) and published in 32 CFR part 505. For additional information contact the system manager.

[FR Doc. 2011-7702 Filed 3-31-11; 8:45 am]

BILLING CODE 5001-06-P